DEPARTMENT OF THE INTERIOR

Fish and Wildlife Service

Notice of Availability of a Technical Agency Draft Recovery Plan for the Endangered Spring Creek Bladderpod (Lesquerella perforata) for Review and Comment

AGENCY: Fish and Wildlife Service, Interior.

ACTION: Notice of document availability and opening of public comment period.

SUMMARY: We, the Fish and Wildlife Service, announce the availability of the technical agency draft recovery plan for the Spring Creek bladderpod (Lesquerella perforata). This species is endemic to the Central Basin in Tennessee. It is currently known from only three watersheds (Spring Creek, Bartons Creek, and Cedar Creek) in Wilson County, Tennessee. The technical agency draft recovery plan includes specific recovery objectives and criteria to be met in order to downlist this species to threatened status and delist it under the Endangered Species Act of 1973, as amended (Act) (16 U.S.C. 1533 et seq.). We solicit review and comment on this technical agency draft recovery plan from local, State, and Federal agencies, and the public.

DATES: In order to be considered, we must receive comments on the draft recovery plan on or before November 14, 2005.

ADDRESSES: If you wish to review this technical agency draft recovery plan, you may obtain a copy by contacting the Tennessee Field Office, U.S. Fish and Wildlife Service, 446 Neal Street, Cookeville, Tennessee 38501 (telephone (931) 528-6481), or by visiting our recovery plan Web site at http://endangered.fws.gov/recovery/index.html#plans. If you wish to comment, you may submit your comments by any one of several methods:

1. You may submit written comments and materials to the Project Leader, at the above address.

2. You may hand-deliver written comments to our Tennessee Field Office, at the above address, or fax your comments to (931) 528-7075.

3. You may send comments by e-mail to timothy_merritt@fws.gov. For directions on how to submit electronic filing of comments, see the “Public Comments Solicited” section.

Comments and materials received are available for public inspection on request, by appointment, during normal business hours at the above address.

FOR FURTHER INFORMATION CONTACT: Timothy Merritt at the above address (telephone (931) 528-6481, ext. 211).

SUPPLEMENTARY INFORMATION:

Background

We listed the Spring Creek bladderpod under the Act, on January 22, 1997 (61 FR 67493). This rare plant, a winter annual, is restricted to the floodplains of three creeks (Bartons, Spring and Cedar) in Wilson County, Tennessee. It can be found in agricultural fields, flooded pastures and glades, and disturbed areas. It requires some degree of disturbance, such as scouring from natural flooding or plowing of the soil, to complete its life cycle.

Factors contributing to its endangered status are an extremely limited range and loss of habitat. The primary threat is the loss of habitat due to conversion of land to uses other than cultivation of annual crops, such as the rapid commercial, residential, and industrial development that is occurring throughout Wilson County.

Restoring an endangered or threatened animal or plant to the point where it is again a secure, self-sustaining member of its ecosystem is a primary goal of the endangered species program. To help guide the recovery effort, we are preparing recovery plans for most listed species. Recovery plans describe actions considered necessary for conservation of the species; establish criteria for downlisting or delisting, and estimate time and cost for implementing recovery measures.

The Act requires the development of recovery plans for listed species unless such a plan would not promote the conservation of a particular species. Section 4(f) of the Act requires us to provide a public notice and an opportunity for public review and comment be provided during recovery plan development. We will consider all information presented during a public comment period prior to approval of each new or revised recovery plan. We and other Federal agencies will take these comments into account in the course of implementing approved recovery plans.

The objective of this technical agency draft plan is to provide a framework for the recovery of this species so that protection under the Act is no longer necessary. Spring Creek bladderpod will be considered for reclassification to threatened status when there are 15 occurrences: Five occurrences located within the floodplain of each of the three creeks (Spring Creek, Bartons Creek, and Cedar Creek). These occurrences either located on public or private land must be protected by a permanent conservation easement with a management agreement. Each occurrence must consist of an average of 500 plants over a five-year period with no less than 100 plants in any given year.

Spring Creek bladderpod will be considered for delisting when there are 25 occurrences, with at minimum five occurrences located within the floodplain of each of the three creeks (Spring Creek, Bartons Creek, and Cedar Creek). Each occurrence either located on public or private land must be protected by a permanent conservation easement with a management agreement. Each occurrence must consist of an average of 500 plants over a ten-year period with no less than 100 plants in any given year. As reclassification and recovery criteria are met, the status of the species will be reviewed and it will be considered for reclassification or removal from the Federal List of Endangered and Threatened Wildlife and Plants.

Public Comments Solicited

We solicit written comments on the recovery plan described. We will consider all comments received by the date specified above prior to final approval of the draft recovery plan.

Please submit electronic comments as an ASCII file format and avoid the use of special characters and encryption. Please also include your name and return address in your e-mail message. If you do not receive a confirmation from the system that we have received your e-mail message, contact us directly by calling our Tennessee Field Office (see ADDRESSES section).

Our practice is to make all comments, including names and home addresses of respondents, available for public review during regular business hours. Individual respondents may request that we withhold their home address from the record, which we will honor to the extent allowable by law. In some circumstances, we would withhold also from the record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533(f).

Dated: August 17, 2005.
Cynthia K. Dohner,
Acting Regional Director, Southeast Region.

[FR Doc. 05-17977 Filed 9-9-05; 8:45 am]

BILLING CODE 4310-55-P